DEPARTMENT OF HEALTH AND HUMAN SERVICES

Food and Drug Administration

[Docket No. FDA-2011-N-0400]

DEPARTMENT OF AGRICULTURE

Food Safety and Inspection Service

[Docket No. FSIS-2011-0014]

Approaches To Reducing Sodium Consumption; Public Meeting

AGENCY: Food and Drug Administration, HHS; Food Safety and Inspection Service, USDA.

ACTION: Notice of public meeting; request for comments.

SUMMARY: The Food and Drug Administration (FDA), the Centers for Disease Control and Prevention (CDC), the Food Safety and Inspection Service (FSIS), the Agricultural Research Service (ARS) and the Center for Nutrition Policy and Promotion (CNPP) are announcing a public meeting entitled “Approaches to Reducing Sodium Consumption.” FDA and FSIS recently published a Federal Register notice that announced the establishment of dockets to obtain comments, data, and evidence relevant to the dietary intake of sodium as well as current and emerging approaches designed to promote sodium reduction. The purpose of the public meeting is to provide interested persons an opportunity to discuss the topics raised in the earlier notice.

DATES: Submit either electronic or written comments, data, and evidence to either FDA's Division of Dockets Management or FSIS's Docket Clerk by November 29, 2011. See also “How To Participate in the Meeting” in the SUPPLEMENTARY INFORMATION section of this document.

ADDRESSES: See Table 1 of this document for meeting location and other information regarding registration for this meeting.

FOR FURTHER INFORMATION CONTACT:

FDA: Patricia M. Kuntze, Office of External Affairs, Food and Drug Administration, 10903 New Hampshire Ave., Bldg. 32, Rm. 5322, Silver Spring, MD 20993, 301-796-8641, Patricia.Kuntze@fda.hhs.gov.

FSIS: Rosalyn Murphy-Jenkins, Director, Labeling and Program Delivery Division, Office of Policy and Program Development, Food Safety and Inspection Service, U.S. Department of Agriculture, USDA, FSIS, OPPD, LPDD Stop Code 3784, Patriots Plaza III, 8-161A, 1400 Independence Ave., SW., Washington, DC 20250-3700.

SUPPLEMENTARY INFORMATION:

I. Background

In the Federal Register of September 15, 2011 (76 FR 57050), FDA and FSIS announced the establishment of dockets to obtain comments, data, and evidence that will inform future Agency activities regarding the reduction of dietary intake of sodium. FDA, CDC, FSIS, ARS, and CNPP are announcing a public meeting entitled “Approaches to Reducing Sodium Consumption” to discuss the topics raised in section II of that notice. Interested persons may also wish to review the FDA's Sodium Reduction Web page located at http://www.fda.gov/Food/FoodIngredientsPackaging/ucm253316.htm.

Reducing sodium consumption is also part of the Department of Health and Human Services' (the Department's) recently-launched Million Hearts initiative (http://millionhearts.hhs.gov/). The Department, working with several key initial partners, is aiming to prevent one million heart attacks and strokes over the next 5 years. Among other significant public health goals, the campaign stresses the need to identify opportunities for sodium reduction.

II. Purpose and Format of the Meeting

If you wish to attend and/or present at the meeting scheduled for November 10, 2011, please register at http://events.SignUp4.net/FDA_Sodium_Reduction by November 3, 2011. FDA, CDC, FSIS, ARS, and CNPP are holding the public meeting on sodium reduction in foods to inform possible future actions by the Agencies. In general, the meeting format will include introductory presentations by FDA, USDA, and CDC, but listening to interested persons is the primary purpose of this meeting. In order to meet this goal, FDA, CDC, FSIS, ARS and CNPP will provide multiple opportunities for individuals to express their opinions through oral presentations at the meeting, participation in break-out sessions on the issues discussed at the meeting, and submission of electronic or written comments, data, and evidence to FDA's Division of Dockets Management and/or FSIS's Docket Clerk by November 29, 2011. The break-out session topics will be available prior to the meeting on FDA's Sodium Reduction Web page at http://www.fda.gov/Food/FoodIngredientsPackaging/ucm253316.htm. The plenary sessions and some of the breakout sessions will be Web cast; see section III of this document, “How to Participate in the Meeting.” In order to provide Web cast participants with information before and after the meeting, we request attendees provide their name, their affiliation, and e-mail address when pre-registering for the Web cast at http://events.SignUp4.net/FDA_Sodium_Reduction.

III. How To Participate in the Meeting

Interested persons will have an opportunity to provide oral comments, time permitting. Due to limited space and time, FDA, CDC, FSIS, ARS, and CNPP encourage all persons who wish to attend the meeting onsite or via Web cast to register in advance at http://events.SignUp4.net/FDA_Sodium_Reduction. There is no fee to register for the public meeting, and registration will be on a first-come, first-served basis. Early registration is recommended because seating is limited. Onsite registration will be accepted, as space permits, after all preregistered attendees are seated. Table 1 of this document provides information on participating in the meeting and on submitting comments to the docket.

Those requesting an opportunity to make an oral presentation during the time allotted for public comment at the meeting, are asked to submit their request by November 3, 2011, and to provide the specific topic or issue to be addressed and the approximate desired length of their presentation. Depending on the number of requests for such oral presentations, there may be a need to limit the number and length (e.g., 3 minutes each) of the oral presentations. If time permits, individuals or organizations that did not register in advance may be granted the opportunity for such an oral presentation. FDA, CDC, FSIS, ARS, and CNPP would like to maximize the number of individuals who make a presentation at the meeting and will do our best to accommodate all persons who wish to make a presentation or express their opinions at the meeting. We are especially interested in hearing about sodium reduction related research results or research efforts underway. FDA, CDC, FSIS, ARS, and CNPP anticipate that there will be several opportunities for interested persons to speak in break-out sessions. A Web cast will be available for interested persons who are not onsite. Interested persons will also have an opportunity to submit electronic or written comments to the docket following the meeting, but no later than November 29, 2011.

FDA, CDC, FSIS, ARS, and CNPP encourage persons and groups who have similar interests to consolidate their information for presentation through a single representative. After reviewing the presentation requests, FDA will notify each participant before the meeting of the amount of time available, the approximate time their presentation is scheduled to begin, and the presentation format.

Table 1—Information on Participation in the Meeting and on Submitting Comments
| Date | Electronic address | Address (non electronic) | Other information
Date of Public Meeting | November 10, 2011, from 9 a.m. to 5:30 p.m. EST | Individuals who wish to participate in person are asked to pre-register at http://events.SignUp4.net/FDA_Sodium_Reduction | FDA White Oak Campus, The Great Room, Bldg. 31, Rm. 1503, 10903 New Hampshire Ave., Silver Spring, MD 20993 | Registration begins at 7:30 a.m.
Web cast | November 10, 2011, from 9 a.m. to 5:30 p.m. EST) | Individuals who wish to view the Web cast of this meeting are requested to pre-register at http://events.SignUp4.net/FDA_Sodium_Reduction. It is recommended that Web cast attendees test their Internet connection to confirm access to the Web cast prior to the meeting. To test this connection, visit http://fda.yorkcast.com/webcast/Catalog/catalogs/default.aspx and click on “CDRH Television Tutorial and Firewall Test.” | FDA encourages the use of electronic registration, if possible | The Web cast will provide closed captioning.
Advance Registration | Register by November 3, 2011 | http://events.SignUp4.net/FDA_Sodium_Reduction | FDA encourages the use of electronic registration, if possible | Registration to attend the meeting will also be accepted onsite on the day of the meeting, as space permits. Registration information may be posted without change to http://www.regulations.gov, including any personal information provided.
Request special accommodations due to disability | Register by November 3, 2011 |  | Patricia M. Kuntze, 301-796-8641,e-mail: Patricia.Kuntze@fda.hhs.gov
Make a request for oral presentation | Register by November 3, 2011 | http://events.SignUp4.net/FDA_Sodium_Reduction |  | Requests made on the day of the meeting to make an oral presentation may be granted as time permits. Information on requests to make an oral presentation may be posted without change to http://www.regulations.gov, including any personal information provided.
Provide a brief description of the oral presentation and any written material for the presentation | By November 3, 2011 | http://events.SignUp4.net/FDA_Sodium_Reduction |  | Written material associated with an oral presentation should be submitted in Microsoft PowerPoint, Microsoft Word, or Adobe Portable Document Format (PDF) and may be posted without change to http://www.regulations.gov, including any personal information provided.
Submit electronic or written comments | Submit comments by November 29, 2011 | Federal eRulemaking Portal: http://www.regulations.gov. Follow the instructions for submitting comments | FDA: FAX: 301-827-6870. Mail/Hand delivery/Courier (for paper, disk, or CD-ROM submissions): Division of Dockets Management (HFA-305), Food and Drug Administration, 5630 Fishers Lane, rm. 1061, Rockville, MD 20852 FSIS: Docket Clerk, U.S. Department of Agriculture, Food Safety and Inspection Service, George Washington Carver Center, 5601 Sunnyside Ave., Mailstop 547, Beltsville, MD 20705-5464 | All comments must include the Agency name and the docket number (see table 2 of this document for a list of Agencies and corresponding docket numbers). All received comments may be posted without change to http://www.regulations.gov, including any personal information provided. FDA and FSIS encourage the submission of electronic comments by using the Federal eRulemaking Portal. For additional information on submitting comments, see the “Comments” heading of the SUPPLEMENTARY INFORMATION section of this document.

IV. Comments

FDA: Regardless of attendance at the public meeting, interested persons may submit to FDA's Division of Dockets Management (see Addresses in table 1 of this document) either electronic or written comments for consideration at or after the meeting, in addition to, or in place of, a request for an opportunity to make an oral presentation. It is only necessary to send one set of comments. It is no longer necessary to send two copies of mailed comments. Identify comments with the docket number found in brackets in the heading of this document. Received comments may be seen in the Division of Dockets Management between 9 a.m. and 4 p.m., Monday through Friday.

FSIS: Regardless of attendance at the public meeting, interested persons may submit to FSIS's Docket Clerk (see Addresses in table 1 of this document) either electronic or written comments regarding this document. Identify comments with the docket number found in brackets in the heading of this document. Received comments may be seen in the FSIS Docket Room between 8:30 a.m. and 4:30 p.m., Monday through Friday.

Because two docket numbers are associated with this document, please include with your comments the docket number that corresponds with the appropriate Agency. Comments submitted for inclusion in both dockets should be separately submitted to each identified docket number to ensure consideration by both Agencies.

V. Transcripts

Please be advised that as soon as a transcript is available, it will be posted on FDA's Sodium Reduction Web page at http://www.fda.gov/Food/FoodIngredientsPackaging/ucm253316.htm. It may also be viewed at the Division of Dockets Management (HFA-305), Food and Drug Administration, 5630 Fishers Lane, rm. 1061, Rockville, MD 20852. A transcript will also be available in either hardcopy or on CD-ROM, after submission of a Freedom of Information request. Written requests are to be sent to Division of Freedom of Information (ELEM-1029), Food and Drug Administration, 12420 Parklawn Dr., Element Bldg., Rockville, MD 20857.

Dated: October 6, 2011.
Leslie Kux,
Acting Assistant Commissioner for Policy, Food and Drug Administration.
Dated: October 4, 2011.
Alfred V. Almanza,
Administrator, Food Safety and Inspection Service.

[FR Doc. 2011-26371 Filed 10-11-11; 8:45 am]

BILLING CODE 4160-01-P